DEPARTMENT OF DEFENSE

Department of the Army

Army Science Board Closed Meeting Notice

AGENCY: Department of the Army, DoD.

ACTION: Notice of a closed meeting.

SUMMARY: Pursuant to the Federal Advisory Committee Act of 1972, the Government in the Sunshine Act of 1976 and the Code of Federal Regulations, the Department of the Army announces the following committee meeting: Army Science Board (ASB) Spring Voting Session.

FOR FURTHER INFORMATION CONTACT: Army Science Board, Designated Federal Officer, 2530 Crystal Drive, Suite 7098, Arlington, VA 22202; MAJ Sean M. Madden, the committee's Designated Federal Officer (DFO), at (703) 545-8652 or email: sean.m.madden.mil@mail.mil, or Mr. Paul Woodward at (703) 695-8344 or email: paul.j.woodward2.civ@mail.mil.

Public's Accessibility to the Meeting: The Department of the Army has determined that the closed meeting is properly closed in accordance with 5 U.S.C. 552b(c)(1), which permits Federal Advisory Committee meetings to be closed which are likely to “disclose matters that are (A) specifically authorized under criteria established by an Executive Order to be kept secret in the interest of national defense or foreign policy and (B) in fact properly classified pursuant to such Executive Order.”

SUPPLEMENTARY INFORMATION: (Filing Written Statement) Pursuant to 41 CFR 102-3.140d, the Committee is not obligated to allow the public to speak; however, interested persons may submit a written statement for consideration by the Subcommittees. Individuals submitting a written statement must submit their statement to the DFO at the address listed above. Written statements not received at least 10 calendar days prior to the meeting may not be considered by the Board prior to its scheduled meeting.

The DFO will review all timely submissions with the Board's executive committee and ensure they are provided to the specific study members as necessary before, during, or after the meeting. After reviewing written comments, the study chairs and the DFO may choose to invite the submitter of the comments to orally present their issue during a future open meeting.

The DFO, in consultation with the executive committee, may allot a specific amount of time for members of the public to present their issues for discussion.

Name of Committee: Army Science Board (ASB) Spring Voting Session.

Date: Tuesday, May 02, 2017.

Time: 0900-1100.

Location: Georgia Technology Research Institute Conference Center, 250 14th St. NW., Room 112, Atlanta, GA 30318.

Purpose of Meeting: The purpose of the meeting is for all members of the ASB and its subcommittees to meet and present one of six Fiscal Year 2016 (FY16) studies and present one of five Fiscal Year 2017 (FY17) studies to the voting members for their consideration, deliberation, and vote.

Agenda: The board will present findings and recommendations for deliberation and vote on the following FY16 and FY17 studies:

“Disruptive Innovative Concepts for the Future Army.” This study offers innovative concepts and enabling technologies for the future Army. The concepts are consistent with the findings and recommendations of Unified Quest exercises, according with Army Warfighting challenges and address future threats. This is an ongoing FY16 study that incorporates the findings and recommendations from five other FY16 ASB studies.

“Nuclear Survivability in Future Warfare: How to Effectively Assess Requirements.” The objective of this FY17 study is to analyze Nuclear Hardness and Survivability (NH&S) requirements and to assess the best methods to verify these requirements.

Brenda S. Bowen,
Army Federal Register Liaison Officer.

[FR Doc. 2017-07570 Filed 4-13-17; 8:45 am]

BILLING CODE 5001-03-P